DEPARTMENT OF TRANSPORTATION

Federal Aviation Administration

14 CFR Parts 27 and 29

Interest in Restructure of Rotorcraft Airworthiness Standards

AGENCY: Federal Aviation Administration, DOT.

ACTION: Request for comments.

SUMMARY: The Federal Aviation Administration (FAA) is requesting comments and information on the public's interest in restructuring the rotorcraft airworthiness standards of normal category rotorcraft and transport category rotorcraft. Specifically, the agency is seeking comments on whether to change the existing applicability standards for maximum weight and number of passenger seats for either or both types of rotorcraft, or whether to consider other approaches for determining applicability. The FAA is soliciting public input because of some rotorcraft community interest in increasing the 7,000 pound maximum weight limit for the modern normal category rotorcraft and because there may be recommendations for new approaches to make the rotorcraft airworthiness standards more efficient and adaptable to future technology. This action is part of an effort to develop recommendations for possible FAA rulemaking action.

DATES: Send your comments to reach us on or before May 23, 2013.

ADDRESSES: Send comments identified by docket number FAA-2013-0144 using any of the following methods:

□ Federal eRegulations Portal: Go to http://www.regulations.gov, use the search function to locate the docket number, and follow the online instructions for sending your comments electronically.

□ Mail: Send comments to Docket Operations, M-30, U.S. Department of Transportation (DOT), 1200 New Jersey Avenue SE, Room W12-140, West Building Ground Floor, Washington, DC, 20590-0001.

□ Hand Delivery: Take comments to Docket Operations in Room W12-140 of the West Building Ground Floor at 1200 New Jersey Avenue SE., Washington, DC, between 8 a.m., and 5 p.m., Monday through Friday, except Federal holidays.

□ Fax: Fax comments to Docket Operations at 202-493-2251.

Privacy: The FAA will post all comments it receives, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Comments received can be seen at http://www.regulations.gov. Follow the online instructions for accessing the docket or go to the Docket Operations in Room W12-140 of the West Building Ground Floor at 1200 New Jersey Avenue SE., Washington, DC, between 9 a.m., and 5 p.m., Monday through Friday, except Federal holidays.

FOR FURTHER INFORMATION CONTACT: FAA, Rotorcraft Directorate, Regulations and Policy Group (Attn: John Vanhoudt, ASW-111), 2601 Meacham Blvd., Fort Worth, Texas 76137; telephone (817) 222-5167; facsimile (817) 222-5961; or email john.vanhoudt@faa.gov.

SUPPLEMENTARY INFORMATION:

Your Comments Are Welcome

We invite your comments on the issues described in this request. The most useful comments are those that address the questions identified in the Request for Comments section below. Responses to these questions will be helpful in evaluating the issues and determining what future actions we should undertake.

To ensure consideration, you must submit comments as specified under the ADDRESSES section of this preamble. We will consider all communications received on or before the closing date for comments. All comments submitted will be available for examination, both before and after the closing date for comments, under the docket number FAA-2013-0144 at http://www.regulations.gov.

Background and Discussion

Currently, the applicability rule for part 27 (14 CFR 27.1) prescribes airworthiness standards for “normal category rotorcraft with maximum weights of 7,000 pounds or less and nine or less passenger seats.” Rotorcraft with a maximum weight greater than 7,000 pounds or with 10 or more passenger seats are certificated as transport category rotorcraft under part 29.

The applicability rules for rotorcraft certificated under parts 27 and 29 have been discussed since the early 1990s. In February 1994, the FAA held a public meeting to determine a course of action that was in the best interest of the public and the aviation community. Subsequently, an Aviation Rulemaking Advisory Committee working group was established with representatives from the FAA, the Joint Aviation Authorities, and Transport Canada Civil Aviation, as well as from U.S. and European helicopter manufacturers. In February 1995, the Rotorcraft Gross Weight and Passenger Issues Working Group was established and tasked with recommending new or revised requirements for increasing the gross weight and passenger limitations for normal category rotorcraft. There was agreement to increase the gross weight limitation of part 27 from 6,000 to 7,000 pounds with added passenger safety requirements.

More recently we have recognized that the evolution of the part 27 and 29 rules has not kept pace with technology and the capability of newer rotorcraft. Therefore, the FAA is interested in investigating new approaches to make the rotorcraft airworthiness regulations more efficient and adaptable to future technology. Additionally, the FAA has found that without a rulemaking effort to extensively revise the rotorcraft standards, we are left with the option of issuing multiple special conditions for the same technologies (fly-by-wire flight control systems, search and rescue approach, etc.).

If we find adequate interest from the rotorcraft community, we would consider initiating a rulemaking effort, similar in scope to the proposed revisions of the small airplane part 23 standards. The new part 23 rulemaking initiative resulted from a determination that applying a weight standard to certification for small aircraft was no longer relevant. Conversely, if the level of interest indicates the current standards remain appropriate but would benefit from some revision, we may undertake a smaller rulemaking effort to update a limited number of regulations in parts 27 and 29.

Request for Comments

As noted above, the FAA is seeking comments to determine whether an all new approach for parts 27 and 29 is appropriate for future rotorcraft airworthiness standards and safety levels, or whether the existing standards philosophy based on weight (currently 7,000 pound maximum for part 27) and maximum number of passengers (currently maximum of 9 passengers for part 27) is appropriate. In providing your comments, we would find it most useful if you address some or all of the following questions:

(a) To what extent do you believe the current rotorcraft certification standards need to be amended to remain relevant over the next 20 years, given the rapid pace of advances in technology?

(b) Should the current rotorcraft certification standards be completely changed, or are weight and number of passengers still relevant for determining certification?

(c) If you believe certification should continue to be based on weight and number of passengers, to what extent should the existing standards be updated, and how?

(d) As revisions to regulatory certification standards would require participation in a rulemaking committee over a substantial period of time, to what extent would you be willing to participate?

As a convenience, these questions are available for submission in the same format as above at the following Web site link: http://www.faa.gov/aircraft/air_cert/design_approvals/rotorcraft/comm.

If the FAA decides to have further rulemaking discussions on these issues, we will issue a document, giving the public another opportunity to comment.

Issued in Fort Worth, TX, on February 8, 2013.
Kimberly K. Smith,
Manager, Rotorcraft Directorate, Aircraft Certification Service.

[FR Doc. 2013-03709 Filed 2-21-13; 8:45 am]

BILLING CODE 4910-13-P